DEPARTMENT OF COMMERCE

National Oceanic and Atmospheric Administration

[I.D. 081604C]

Advisory Committee to the U.S. Section of the International Commission for the Conservation of Atlantic Tunas (ICCAT); Fall Meeting

AGENCY: National Marine Fisheries Service (NMFS), National Oceanic and Atmospheric Administration (NOAA), Commerce.

ACTION: Notice of public meeting.

SUMMARY: In preparation for the 2004 ICCAT meeting, the Advisory Committee to the U.S. Section to ICCAT will hold two fall meetings.

DATES: The open sessions will be held on September 9, 2004, from 8 a.m. to 11:15 a.m. and October 21, 2004, from 8 a.m. to 10:30 a.m. Closed sessions will be held on September 9, 2004, from 11:30 a.m. to 5:30 p.m., September 10, 2004, from 8 a.m. to 12 p.m., October 21, 2004, from 11 a.m. to 5 p.m., and October 22, 2004, from 8:30 a.m. to 12:30 p.m. Written comments should be received no later than August 27, 2004.

ADDRESSES: The meeting will be held at the Hilton Hotel, 8727 Colesville Road, Silver Spring, MD 20910. Written comments should be sent to Erika Carlsen at NOAA Fisheries/SF4, Room 13114, 1315 East-West Highway, Silver Spring, MD 20910.

FOR FURTHER INFORMATION CONTACT: Erika Carlsen, 301-713-2276.

SUPPLEMENTARY INFORMATION: The Advisory Committee to the U.S. Section to ICCAT will meet in an open session to consider information on stock status of highly migratory species and 2004 management recommendations of ICCAT's Standing Committee on Research and Statistics (SCRS). The only opportunity for oral public comment will be during the October 21, 2004, open session. Written comments are encouraged and, if mailed, should be received by August 27, 2004 (see ADDRESSES). Written comment can also be submitted during the open sessions of the Advisory Committee meeting.

During its fall meetings, the Advisory Committee will hold several executive sessions, which are closed to the public. The 1st session will be on September 9, 2004, after the adjournment of the first open session. A second closed session will be held on September 10, 2004. During its second fall meeting, the Advisory Committee will again go to into executive session on October 21, 2004, immediately following the adjournment of the second open session. The final closed session will be held on October 22, 2004. The purpose of these sessions is to discuss sensitive information relating to upcoming international negotiations.

NMFS expects members of the public to conduct themselves appropriately for the duration of the meeting. At the beginning of the public comment session, an explanation of the ground rules will be provided (e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting locations are physically accessible to people with disabilities. Requests for sign language interpretation or other auxiliary aids should be directed to Erika Carlsen at (301) 713-2276 at least five days prior to the meeting date.

Dated: August 18, 2004.
Alan D. Risenhoover,
Deputy Director, Office of Sustainable Fisheries, National Marine Fisheries Service.

[FR Doc. 04-19349 Filed 8-23-04; 8:45 am]

BILLING CODE 3510-22-S